DEPARTMENT OF ENERGY

Federal Energy Regulatory Commission

[Docket No. CP11-530-000]

National Fuel Gas Supply Corporation; Notice of Request Under Blanket Authorization

Take notice that on August 5, 2011, National Fuel Gas Corporation (National Fuel), 6363 Main Street, Williamsville, New York 14221-5887, filed in Docket No. CP11-530-000, an application pursuant to sections 157.205, 157.208 and 157.213 of the Commission's Regulations under the Natural Gas Act (NGA) as amended, to drill two new horizontal injection/withdrawal wells within the Colden Storage Field in Erie, New York, under National Fuel's blanket certificate issued in Docket No. CP83-4-000, all as more fully set forth in the application which is on file with the Commission and open to public inspection. The new wells are proposed to restore and maintain field deliverability. National Fuel will also construct two new well lines to connect the wells to the existing storage pipelines. Each new well line will consist of approximately 150 feet of 8-inch storage pipelines. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Janet R. Bayer, Regulatory Analyst, National Fuel Gas Supply Corporation, 6363 Main Street, Williamsville, New York 14221-5887 at telephone (716) 857-7429, facsimile (716) 857-7206 or e-mail: jrbferc@natfuel.com.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commentary will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street, NE., Washington, DC 20426.

Dated: August 10, 2011.
Kimberly D. Bose,
Secretary.

[FR Doc. 2011-20893 Filed 8-16-11; 8:45 am]

BILLING CODE 6717-01-P